CHEMICAL SAFETY AND HAZARD INVESTIGATION BOARD

Sunshine Act Meeting

TIME AND DATE: April 29, 2020, 11:00 a.m. EDT.

PLACE: U.S. Chemical Safety and Hazard Investigation Board, 1750 Pennsylvania Ave. NW, Suite 910, Washington, DC 20006.

STATUS: Because of the COVID-19 pandemic, members of the public will not be able to attend in person. However, any member of the public may listen to the meeting in its entirety by following the instructions in the “Additional Information” section below.

MATTERS TO BE CONSIDERED: The Chemical Safety and Hazard Investigation Board (CSB) will convene a public meeting on Wednesday, April 29, 2020 at 11:00 a.m. EDT. The Board will discuss open investigations, the status of audits from the Office of the Inspector General, financial and organizational updates.

Additional Information

This meeting will only be available via the dial in number below.

Join the Audio Conference:

Please dial the phone number five minutes prior to the start of the meeting and enter your passcode.

Dial-In: 1 (866) 294-4838 Audience US Toll Free; 1 (847) 944-7303 Audience US Toll

Passcode: 7814 892

If you require a translator or interpreter, please notify the individual listed below as the Contact Person for Further Information, at least three business days prior to the meeting.

The CSB is an independent federal agency charged with investigating incidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

The time provided for public statements will depend upon the number of people who wish to speak. Speakers should assume that their presentations will be limited to three minutes or less, but commenters may submit written statements for the record.

CONTACT PERSON FOR FURTHER INFORMATION: Hillary Cohen, Communications Manager, at public@csb.gov or (202) 446-8094. Further information about this public meeting can be found on the CSB website at: www.csb.gov.

Authority: 5 U.S.C. 552b.

Dated: April 21, 2020.
Ray Porfiri,
Deputy General Counsel, Chemical Safety and Hazard Investigation Board.

[FR Doc. 2020-08828 Filed 4-22-20; 11:15 am]

BILLING CODE 6350-01-P